DEPARTMENT OF EDUCATION

National Advisory Committee on Institutional Quality and Integrity Meeting

AGENCY: National Advisory Committee on Institutional Quality and Integrity (NACIQI), Office of Postsecondary Education, U.S. Department of Education.

ACTION: Announcement of an open meeting.

SUMMARY: This notice sets forth the agenda for the June 22, 23, and 24, 2016 meeting of the National Advisory Committee on Institutional Quality and Integrity (NACIQI), outlines certain new meeting procedures, and provides information to members of the public on submitting written comments and on requesting to make oral comments at the meeting. The notice of this meeting is required under section 10(a)(2) of the Federal Advisory Committee Act (FACA) and section 114(d)(1)(B) of the Higher Education Act (HEA) of 1965, as amended.

DATES: The NACIQI meeting will be held on June 22, 23, and 24, 2016, from 8:30 a.m. to 5:30 p.m.

ADDRESSES: The exact location of the meeting will be published no later than May 23, 2016 in the Federal Register and on the Department's Web site at http://www2.ed.gov/about/bdscomm/list/naciqi.html#meetings by

FOR FURTHER INFORMATION CONTACT: Jennifer Hong, Executive Director/Designated Federal Official, NACIQI, U.S. Department of Education, 400 Maryland Avenue SW., Room 6W250, Washington, DC 20202, telephone: (202) 453-7805, or email: Jennifer.Hong@ed.gov.

SUPPLEMENTARY INFORMATION: NACIQI's Statutory Authority and Function: The NACIQI is established under section 114 of the Higher Education Act of 1965, as amended (HEA), 20 U.S.C. 1011c. The NACIQI advises the Secretary of Education about:

• The establishment and enforcement of the criteria for recognition of accrediting agencies or associations under subpart 2, part H, title IV of the HEA, as amended.

• The recognition of specific accrediting agencies or associations or a specific State public postsecondary vocational education or nurse education approval agency.

• The preparation and publication of the list of nationally recognized accrediting agencies and associations.

• The eligibility and certification process for institutions of higher education under Title IV of the HEA, together with recommendations for improvement in such process.

• The relationship between (1) accreditation of institutions of higher education and the certification and eligibility of such institutions, and (2) State licensing responsibilities with respect to such institutions.

• Any other advisory function relating to accreditation and institutional eligibility that the Secretary may prescribe.

Meeting Agenda: Below is a list of agencies, including their current and requested scopes of recognition, scheduled for review during the June 2016 meeting:

Applications for Renewal of Recognition

1. Accreditation Commission for Acupuncture and Oriental Medicine

Scope of Recognition: The accreditation and preaccreditation (“Candidacy Status”) throughout the United States of first-professional master's degree and professional master's level certificate and diploma programs in acupuncture and Oriental Medicine and professional post-graduate doctoral programs in acupuncture and in Oriental Medicine (DAOM), as well as freestanding institutions and colleges of acupuncture or Oriental Medicine that offer such programs.

Title IV Note: Only freestanding institutions or colleges of acupuncture or Oriental medicine may use accreditation by this agency to establish eligibility to participate in Title IV programs. Students enrolled in first professional and professional degree programs do not qualify as graduate or professional students for Title IV purposes unless they have completed the equivalent of at least three years of full-time study either prior to entrance into the program or as part of the program itself, and unless they meet the additional requirements of the definition of “graduate or professional student” at 34 CFR 668.2.

2. Accrediting Bureau of Health Education Schools

Scope of Recognition: The accreditation of private, postsecondary institutions in the United States offering predominantly allied health education programs and the programmatic accreditation of medical assistant, medical laboratory technician, and surgical technology programs, leading to a certificate, diploma, Associate of Applied Science, Associate of Occupational Science, Academic Associate degree, or Baccalaureate degree, including those offered via distance education.

Title IV Note: Only freestanding allied health education institutions and institutions that offer predominantly allied health programs may use accreditation by this agency to establish eligibility to participate in Title IV programs.

3. Accrediting Commission of Career Schools and Colleges

Scope of recognition: The accreditation of private, postsecondary, non-degree-granting institutions and degree-granting institutions in the United States, including those granting associate, baccalaureate and master's degrees, that are predominantly organized to educate students for occupational, trade and technical careers, and including institutions that offer programs via distance education.

4. Accrediting Council for Independent Colleges and Schools

Scope of recognition: The accreditation of private, postsecondary institutions offering certificates or diplomas, and postsecondary institutions offering associate, bachelor's, or master's degrees in programs designed to educate students for professional, technical, or occupational careers, including those that offer those programs via distance education.

5. American Bar Association, Council of the Section of Legal Education and Admissions to the Bar

Scope of recognition: The accreditation throughout the United States of programs in legal education that lead to the first professional degree in law, including those offered via distance education, as well as freestanding law schools offering such programs. This recognition also extends to the Accreditation Committee of the Section of Legal Education (Accreditation Committee) for decisions involving continued accreditation (referred to by the agency as “approval”) of law schools.

Title IV Note: Only freestanding law schools may use accreditation by this agency to establish eligibility to participate in Title IV programs.

6. American Osteopathic Association, Osteopathic College Accreditation

Scope of recognition: The accreditation and preaccreditation (“Provisional Accreditation”) throughout the United States of freestanding institutions of osteopathic medicine and of osteopathic medical programs leading to the degree of Doctor of Osteopathy or Doctor of Osteopathic Medicine.

Title IV Note: Only freestanding schools or colleges of osteopathic medicine may use accreditation by this agency to establish eligibility to participate in Title IV programs.

7. American Psychological Association, Commission on Accreditation

Scope of recognition: The accreditation in the United States of doctoral programs in clinical, counseling, school and combined professional-scientific psychology; doctoral internship programs in health service psychology; and postdoctoral residency programs in health service psychology. The preaccreditation in the United States of doctoral internship programs in health services psychology; and postdoctoral residency programs in health service psychology.

8. Commission on Accrediting of the Association of Theological Schools

Scope of recognition: The accreditation of theological schools and seminaries, as well as schools or programs that are parts of colleges or universities, in the United States, offering post-baccalaureate degrees in professional and academic theological education, including delivery via distance education.

Title IV Note: Only freestanding institutions, colleges, or seminaries of theology may use accreditation by this agency to establish eligibility to participate in Title IV programs.

9. Council on Occupational Education

Scope of recognition: The accreditation and preaccreditation (“Candidacy Status”) throughout the United States of postsecondary occupational education institutions offering non-degree and applied associate degree programs in specific career and technical education fields, including institutions that offer programs via distance education.

10. Transnational Association of Christian Colleges and Schools, Accreditation Commission

Scope of recognition: The accreditation and preaccreditation (“Candidate” Status) of Christian postsecondary institutions in the United States that offer certificates, diplomas, and associate, baccalaureate, and graduate degrees, including institutions that offer distance education.

Compliance Reports

1. American Veterinary Medical Association, Council on Education

Scope of recognition: The accreditation and preaccreditation (“Provisional Accreditation”) in the United States of programs leading to professional degrees (D.V.M. or D.M.D.) in veterinary medicine.

2. Northwest Commission on Colleges and Universities

Scope of recognition: The accreditation and preaccreditation (“Candidacy Status”) of postsecondary degree-granting educational institutions in Alaska, Idaho, Montana, Nevada, Oregon, Utah, and Washington, and the accreditation of programs offered via distance education within these institutions. (Compliance report on 34 CFR 602.24(a) and 602.24(b) for findings affirmed on appeal by the Secretary. Please see http://oha.ed.gov/secretarycases/2014-7-O-S.pdf for the Secretary's appeal decision.)

Review of Accrediting Agencies Under 34 CFR 602.33 for Failure To Submit a Renewal Application Under 34 CFR 602.31(a)

1. National Council for Accreditation of Teacher Education

Scope of recognition: The accreditation throughout the United States of professional education units providing baccalaureate and graduate degree programs for the preparation of teachers and other professional personnel for elementary and secondary schools, including programs offering distance education.

2. Teacher Education Accreditation Council, Accreditation Committee

Scope of recognition: The accreditation and pre-accreditation throughout the United States of professional teacher education programs in institutions offering baccalaureate and graduate degrees for the preparation of K-12 teachers.

State Approval Agency for Public Postsecondary Vocational Education—Application for Renewal of Recognition

Puerto Rico State Agency for the Approval of Public Postsecondary Vocational, Technical Institutions and Programs.

NACIQI Policy Agenda

NACIQI will continue discussion regarding its policy agenda, in light of the following meeting procedures.

Meeting Discussion

In addition to following the HEA, FACA, implementing regulations, and the NACIQI charter, as well as its customary procedural protocols, NACIQI inquiries will include the questions and topics listed in the pilot plan it adopted at its December 2015 meeting. Documents entitled “June 2016 Pilot Plan” and “June 2016 Meeting Plan Draft,” both linked on the NACIQI Web site at http://www2.ed.gov/about/bdscomm/list/naciqi.html under the heading “June 2016 Meeting,” outline this pilot and provide further explanation and context framing NACIQI's work. As noted in those documents, NACIQI's reviews of accrediting agencies will include consideration of data and information available on College Scorecard, https://collegescorecard.ed.gov/ and on the Department's accreditation Web site, http://www.ed.gov/accreditation?src=rn. Accrediting agencies that will be reviewed for renewal of recognition will not be on the consent agenda and are advised to come prepared to answer questions related to the following:

• Decision activities of and data gathered by the agency.

○ NACIQI will inquire about the range of accreditation activities of the agency since its prior review for recognition, including discussion about the various favorable, monitoring, and adverse actions taken. Information about the primary standards cited for the monitoring and adverse actions that have been taken will be sought.

○ NACIQI will also inquire about what data the agency routinely gathers about the activities of the institutions it accredits and about how that data is used in their evaluative processes.

• Standards and practices with regard to student achievement.

○ How does your agency address “success with respect to student achievement” in the institutions it accredits?

○ Why was this strategy chosen? How is this appropriate in your context?

○ What are the student achievement challenges in the institutions accredited by your agency?

○ What has changed/is likely to change in the standards about student achievement for the institutions accredited by your agency?

○ In what ways have student achievement results been used for monitoring or adverse actions?

• Agency activities in improving program/institutional quality.

○ How does this agency define “at risk” status?

○ What tools does this agency use to evaluate “at risk” status?

○ What tools does this agency have to help “at risk” institutions improve?

○ What can the agency tell us about how well these tools for improvement have worked?

To the extent NACIQI's questions go to improvement of institutions and programs that are not at risk of falling into noncompliance with agency requirements, the responses will be used to inform NACIQI's general policy recommendations to the Department rather than its recommendations regarding recognition of any individual agency.

The discussions and issues described above regarding the pilot are in addition to, rather than substituting for, exploration by Committee members of any topic relevant to recognition.

Submission of written comments regarding a specific accrediting agency or state approval agency under review: Written comments about the recognition of a specific accrediting or State agency must be received by April 8, 2016, in the ThirdPartyComments@ed.gov mailbox and include the subject line “Written Comments: (agency name).” The email must include the name(s), title, organization/affiliation, mailing address, email address, and telephone number of the person(s) making the comment. Comments should be submitted as a Microsoft Word document or in a medium compatible with Microsoft Word (not a PDF file) that is attached to an electronic mail message (email) or provided in the body of an email message. Comments about an agency's recognition after review of a compliance report must relate to issues identified in the compliance report and the criteria for recognition cited in the senior Department official's letter that requested the report, or in the Secretary's appeal decision, if any. Comments about the renewal of an agency's recognition based on a review of the agency's petition must relate to its compliance with the Criteria for the Recognition of Accrediting Agencies, or the Criteria and Procedures for Recognition of State Agencies for Approval of Public Postsecondary Vocational Education, as appropriate, which are available at http://www.ed.gov/admins/finaid/accred/index.html.

Only material submitted by the deadline to the email address listed in this notice, and in accordance with these instructions, become part of the official record concerning agencies scheduled for review and are considered by the Department and NACIQI in their deliberations. Please do not send material directly to NACIQI members.

Submission of requests to make an oral comment regarding a specific accrediting agency or state approval agency under review: There are two methods the public may use to make a third-party oral comment of three minutes concerning one of the agencies scheduled for review at the June 22, 23, and 24, 2016 meeting.

Method One: Submit a request by email to the ThirdPartyComments@ed.gov mailbox. Please do not send material directly to NACIQI members. Requests must be received by April 29, 2016, and include the subject line “Oral Comment Request: (agency name).” The email must include the name(s), title, organization/affiliation, mailing address, email address, telephone number, of the person(s) requesting to speak, and a brief summary (not to exceed one page) of the principal points to be made during the oral presentation. All individuals submitting an advance request in accordance with this notice will be afforded an opportunity to speak.

Method Two: Register at the meeting location on June 22, 2016, from 7:30 a.m.-8:30 a.m. to make an oral comment during NACIQI's deliberations concerning a particular agency or institution scheduled for review. The requestor must provide his or her name, title, organization/affiliation, mailing address, email address, and telephone number. A total of up to fifteen minutes during each agency review will be allotted for oral commenters who register on June 22, 2016 by 8:30 a.m. Individuals will be selected on a first-come, first-served basis. If selected, each commenter may not exceed three minutes. The oral comments made will become part of the official record and will be considered by the Department and NACIQI in their deliberations. No individual in attendance or making oral presentations may distribute written materials at the meeting.

Comments about an agency's recognition after review of a compliance report must relate to issues identified in the compliance report and the criteria for recognition cited in the senior Department official's letter that requested the report, or in the Secretary's appeal decision, if any. Comments about the renewal of an agency's recognition based on a review of the agency's petition must relate to its compliance with the Criteria for the Recognition of Accrediting Agencies, or the Criteria and Procedures for Recognition of State Agencies for Approval of Public Postsecondary Vocational Education, as appropriate, which are available at http://www.ed.gov/admins/finaid/accred/index.html.

Access to Records of the Meeting: The Department will post the official report of the meeting on the NACIQI Web site 90 days after the meeting. Pursuant to the FACA, the public may also inspect the materials at 400 Maryland Avenue SW., Washington, DC, by emailing aslrecordsmanager@ed.gov or by calling (202) 453-6185 to schedule an appointment.

Reasonable Accommodations: The meeting site is accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

Electronic Access to this Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site. You may also access documents of the Department published in the Federal Register by using the article search feature at: www.federalregister.gov.

Specifically, through the advanced search feature at this site, you can limit your search to documents published by the Department.

Authority: 20 U.S.C. 1011c.

Lynn B. Mahaffie,
Deputy Assistant Secretary for Planning, Policy and Innovation, delegated the duties of Assistant Secretary for Postsecondary Education.

[FR Doc. 2016-06169 Filed 3-17-16; 8:45 am]

BILLING CODE 4000-01-P